DEPARTMENT OF EDUCATION

[CFDA No. 84.116K]

Funding Down Slate; Training for Real-Time Writers (TRTW) Program

AGENCY: Office of Postsecondary Education, Department of Education.

ACTION: Notice of intent to fund down the grant slate from fiscal year (FY) 2010.

SUMMARY: The Secretary intends to use the grant slate developed in FY 2010 for the TRTW Program authorized by Section 872 of the Higher Education Act of 1965, as amended (HEA), 20 U.S.C. 1161s, to make new grant awards in FY 2011. The Secretary takes this action because a significant number of high-quality applications remain on the FY 2010 grant slate and limited funding is available for new grant awards in FY 2011. Specifically, we expect to use an estimated $998,000 for new awards in FY 2011.

FOR FURTHER INFORMATION CONTACT: Erin McDermott, U.S. Department of Education, 1990 K Street, NW., Room 6161, Washington, DC 20006-8524. Telephone: (202) 502-7607 or via Internet: Erin.McDermott@ed.gov.

If you use a telecommunications device for the deaf (TDD), call the Federal Relay Service (FRS), toll free, at 1-800-877-8339.

Individuals with disabilities can obtain this document in an accessible format (e.g., braille, large print, audiotape, or compact disc) on request to the contact person listed under FOR FURTHER INFORMATION CONTACT.

SUPPLEMENTARY INFORMATION:

Background

On July 2, 2010, we published a notice in the Federal Register (75 FR 38510) inviting applications for FY 2010 for new awards under the TRTW Program (FY 2010 NIA).

In response to the FY 2010 NIA, we received a significant number of high-quality applications for grants under the TRTW Program and made four grant awards. Because such a large number of high-quality applications were received, many applications that received high scores by peer reviewers did not receive funding.

To conserve funding that would be required for a peer review of new grant applications submitted under this program and to instead use those funds to support grant activities, we will select grantees in FY 2011 from the existing slate of applicants developed during the FY 2010 competition using the priority, selection criteria, and application requirements referenced in the Federal Register notice published on July 2, 2010.

Program Authority: 20 U.S.C. 1161s.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF, you must have Adobe Acrobat Reader, which is available free at this site.

You may also access documents of the Department published in the Federal Register by using the article search feature at http://www.federalregister.gov. Specifically, through the advanced search feature at this site, you can limit your search to documents published by the Department.

Dated: July 18, 2011.
Eduardo M. Ochoa,
Assistant Secretary for Postsecondary Education.

[FR Doc. 2011-18454 Filed 7-20-11; 8:45 am]

BILLING CODE 4000-01-P